DEPARTMENT OF TRANSPORTATION

Bureau of Transportation Statistics

[Docket ID Number DOT-OST-2014-0031]

Agency Information Collection; Activity Under OMB Review; Report of Passengers Denied Confirmed Space—BTS Form 251

AGENCY: Office of the Assistant Secretary for Research and Technology (OST-R), Bureau of Transportation Statistics (BTS), DOT.

ACTION: Notice.

SUMMARY: In compliance with the Paperwork Reduction Act of 1995, Public Law 104-13, the Bureau of Transportation Statistics invites the general public, industry and other governmental parties to comment on the continuing need for and usefulness of BTS collecting reports on the number of passengers holding confirmed reservations that voluntarily or involuntarily give up their seats when the airline oversells the flight. Comments are requested concerning whether (a) the collection is still needed by the Department of Transportation, (b) BTS accurately estimated the reporting burden; (c) there are other ways to enhance the quality, utility and clarity of the information collected; and (d) there are ways to minimize reporting burden, including the use of automated collection techniques or other forms of information technology.

DATES: Written comments should be submitted by June 5, 2017.

FOR FURTHER INFORMATION CONTACT: Cecelia Robinson, Office of Airline Information, RTS-42, Room E34-410, OST-R, BTS, 1200 New Jersey Avenue SE., Washington, DC 20590-0001, Telephone Number (202) 366-4405, Fax Number (202) 366-3383 or EMAIL cecelia.robinson@dot.gov.

COMMENTS: Comments should identify the associated OMB approval # 2138-0018 and Docket ID Number DOT-OST-2014-0031. Persons wishing the Department to acknowledge receipt of their comments must submit with those comments a self-addressed stamped postcard on which the following statement is made: Comments on OMB # 2138-0018, Docket—DOT-OST-2014-0031. The postcard will be date/time stamped and returned.

ADDRESSES: You may submit comments identified by DOT Docket ID Number DOT-OST-2014-0031 by any of the following methods:

Federal eRulemaking Portal: Go to http://www.regulations.gov. Follow the online instructions for submitting comments.

Mail: Docket Services: U.S. Department of Transportation, 1200 New Jersey Avenue SE., West Building Ground Floor, Room W12-140, Washington, DC 20590-0001.

Hand Delivery or Courier: West Building Ground Floor, Room W12-140, 1200 New Jersey Avenue SE., between 9 a.m. and 5 p.m. ET, Monday through Friday, except Federal holidays.

Fax: 202-366-3383.

Instructions: Identify docket number, DOT-OST-2014-0031, at the beginning of your comments, and send two copies. To receive confirmation that DOT received your comments, include a self-addressed stamped postcard. Internet users may access all comments received by DOT at http://www.regulations.gov. All comments are posted electronically without charge or edits, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket to read background documents or comments received, go to http://www.regulations.gov. or the street address listed above. Follow the online instructions for accessing the dockets.

Electronic Access

You may access comments received for this notice at http://www.regulations.gov, by searching docket DOT-OST-2014-0031.

SUPPLEMENTARY INFORMATION:

OMB Approval No. 2138-0018.

Title: Report of Passengers Denied Confirmed Space.

Form No. BTS Form 251.

Type of Review: Extension of approved collection.

Respondents: Large certificated air carriers.

Number of Respondents: 18.

Number of Responses: 72.

Number of Hours per Response: 10.

Total Annual Burden: 720 hours.

Needs and Uses: BTS Form 251 is a one-page report submitted four times per year, on the number of passengers denied seats either voluntarily or involuntarily, whether these bumped passengers were provided alternate transportation and/or compensation, and the amount of the payment. On November 3, 2016 the Department published a Final Rule (see 81 FR 76800) that changed the number of U.S. air carriers that account for at least 1 percent to .5 percent of domestic scheduled-service passenger revenues who must report oversales on all operations with 30 seats or larger aircraft that depart a U.S. airport.

Carriers do not report data from inbound international flights to the United States because the protections of 14 CFR part 250 Oversales do not apply to these flights. The report allows the Department to monitor the effectiveness of its oversales rule and take enforcement action when necessary. The involuntarily denied-boarding rate has decreased from 4.38 per 10,000 passengers in 1980 to 0.72 for the quarter ended December 2015. Without Form 251, determining the effectiveness of the Department's oversales rule would be impossible. The publishing of the carriers' individual denied boarding rates has diminished the need for more intrusive regulation. The rate of denied boarding can be examined as a continuing fitness factor. This rate provides an insight into a carrier's customer service practices. A rapid sustained increase in the rate of denied boarding may indicate operational difficulties. Because the rate of denied boarding is released quarterly, travelers and travel agents can select carriers with lower incidences of bumping passengers. This information is available in the Air Travel Consumer Report at: http://airconsumer.ost.dot.gov/reports/index.htm. The Air Travel Consumer Report is also sent to newspapers, magazines, and trade journals. The public availability of this information deters carriers from setting unreasonable overbooking rates—a market-based mechanism that is more efficient than direct regulation of those rates.

The Confidential Information Protection and Statistical Efficiency Act of 2002 (44 U.S.C. 3501 note) requires a statistical agency to clearly identify information it collects for non-statistical purposes. BTS hereby notifies the respondents and the public that BTS uses the information it collects under this OMB approval for non-statistical purposes including, but not limited to, publication of both Respondent's identity and its data, submission of the information to agencies outside BTS for review, analysis, and possible use in regulatory and other administrative matters.

Issued in Washington, DC, on March 28, 2017.
William A. Chadwick, Jr.,
Director, Office of Airline Information, Bureau of Transportation Statistics, Office of the Assistant Secretary for Research and Technology.

[FR Doc. 2017-06599 Filed 4-3-17; 8:45 am]

BILLING CODE 4910-9X-P